DEPARTMENT OF ENERGY

Federal Energy Regulatory Commission

Combined Notice of Filings #1

February 7, 2008.

Take notice that the Commission has received the following Natural Gas Pipeline Rate and Refund Report filings:

Docket Numbers: RP96-312-178.

Applicants: Tennessee Gas Pipeline Company.

Description: Tennessee Gas Pipeline Co. submits Gas Transportation Agreement with Statoil Natural Gas, LLC pursuant to its Rate Schedule FT-A etc.

Filed Date: 02/05/2008.

Accession Number: 20080206-0233.

Comment Date: 5 p.m. Eastern Time on Tuesday, February 19, 2008.

Docket Numbers: RP99-301-200.

Applicants: ANR Pipeline Company.

Description: ANR Pipeline Company submits an amendment to Rate Schedule FTS-1 Negotiated Rate Agreement between ANR and Centerpoint Energy Services, Inc.

Filed Date: 02/01/2008.

Accession Number: 20080205-0278.

Comment Date: 5 p.m. Eastern Time on Wednesday, February 13, 2008.

Docket Numbers: RP06-298-006.

Applicants: National Fuel Gas Supply Corporation.

Description: National Fuel Gas Supply Corporation submits its Semi-Annual Report of Operational Sales of Gas pursuant to Section 40-3 of the General Terms and Conditions of its FERC Gas Tariff.

Filed Date: 02/01/2008.

Accession Number: 20080205-0276.

Comment Date: 5 p.m. Eastern Time on Wednesday, February 13, 2008.

Docket Numbers: RP07-114-002.

Applicants: Cheyenne Plains Gas Pipeline Company LLC.

Description: Cheyenne Plains Gas Pipeline Company, LLC submits Original Volume 1, First Revised Sheet 28 and 28A of its FERC Gas Tariff.

Filed Date: 02/01/2008.

Accession Number: 20080205-0277.

Comment Date: 5 p.m. Eastern Time on Wednesday, February 13, 2008.

Docket Numbers: RP07-310-001.

Applicants: Mojave Pipeline Company.

Description: Mojave Pipeline Company submits First Revised Sheet 1 et al. to FERC Gas Tariff, Second Revised Volume 1, with proposed effective dates of February 1, 2008 and March 1, 2008.

Filed Date: 02/05/2008.

Accession Number: 20080206-0232.

Comment Date: 5 p.m. Eastern Time on Tuesday, February 19, 2008.

Docket Numbers: RP08-112-001.

Applicants: Sabine Pipe Line LLC.

Description: Sabine Pipe Line LLC submits Tenth Revised Sheet 20 of its FERC Gas Tariff Volume 1, tariff sheet proposed to become effective March 1, 2008.

Filed Date: 02/04/2008.

Accession Number: 20080205-0300.

Comment Date: 5 p.m. Eastern Time on Tuesday, February 19, 2008.

Docket Numbers: RP08-131-001.

Applicants: Eastern Shore Natural Gas Company.

Description: Eastern Shore Natural Gas Company submits compliance filing to reflect the restoration of missing text to Eastern Shore's General Terms and Conditions Section 31 etc.

Filed Date: 02/04/2008.

Accession Number: 20080205-0275.

Comment Date: 5 p.m. Eastern Time on Tuesday, February 19, 2008.

Docket Numbers: RP08-144-001.

Applicants: Gulf States Transmission Corporation.

Description: Gulf States Transmission Corporation submits Fourth Revised Sheet 5 to be effective March 1, 2008.

Filed Date: 02/04/2008.

Accession Number: 20080205-0299.

Comment Date: 5 p.m. Eastern Time on Tuesday, February 19, 2008.

Docket Numbers: RP08-184-000.

Applicants: SG Resources Mississippi, L.L.C.

Description: SG Resources Mississippi, LLC submits Original Sheet 0 et al. to FERC Gas Tariff, Original Volume 1 etc.

Filed Date: 01/31/2008.

Accession Number: 20080205-0280.

Comment Date: 5 p.m. Eastern Time on Tuesday, February 12, 2008.

Docket Numbers: RP08-185-000.

Applicants: Texas Eastern Transmission LP.

Description: Texas Eastern Transmission, LP submits First Revised Sheet 223 and 258 of its FERC Gas Tariff, Revised Volume 2, to be effective February 1, 2008.

Filed Date: 02/01/2008.

Accession Number: 20080205-0296.

Comment Date: 5 p.m. Eastern Time on Wednesday, February 13, 2008.

Docket Numbers: RP08-186-000.

Applicants: National Fuel Gas Supply Corporation.

Description: Natural Fuel Gas Supply Corporation submits 111th Revised Sheet 9 to its FERC Gas Tariff, Fourth Revised Volume 1, proposed to be effective February 1, 2008.

Filed Date: 02/01/2008.

Accession Number: 20080205-0297.

Comment Date: 5 p.m. Eastern Time on Wednesday, February 13, 2008.

Docket Numbers: RP08-187-000.

Applicants: Northern Natural Gas Company.

Description: Northern Natural Gas Company submits 76 Revised Sheet 50 et al. to FERC Gas Tariff, Fifth Revised Volume 1, to become effective April 1, 2008.

Filed Date: 02/01/2008.

Accession Number: 20080205-0298.

Comment Date: 5 p.m. Eastern Time on Wednesday, February 13, 2008.

Docket Numbers: RP08-188-000.

Applicants: Egan Hub Storage, LLC.

Description: Egan Hub Storage, LLC submits Third Revised Sheet 4 et al. to its FERC Gas Tariff, First Revised Volume 2, to become effective March 6, 2008.

Filed Date: 02/04/2008.

Accession Number: 20080205-0279.

Comment Date: 5 p.m. Eastern Time on Tuesday, February 19, 2008.

Docket Numbers: CP93-618-018.

Applicants: Gas Transmission Northwest Corporation.

Descriptions: Gas Transmission Northwest Corporation submits its Annual Report on Deferred Revenue Recovery Mechanism and Revenue Reconciliation for the Year Ending October 31, 2007.

Filed Date: 01/31/2008.

Accession Number: 20080205-0311.

Comment Date: 5 p.m. Eastern Time on Tuesday, February 19, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E8-2544 Filed 2-11-08; 8:45 am]

BILLING CODE 6717-01-P